DEPARTMENT OF THE TREASURY

Customs Service

Notice of Cancellation of Customs Broker License

AGENCY: Customs Service, Department of the Treasury.

ACTION: General notice.

SUMMARY: Pursuant to section 641 of the Tariff Act of 1930, as amended, (19 U.S.C. 1641) and the Customs Regulations (19 CFR 111.51), the following Customs broker licenses and any and all associated local and national permits are canceled without prejudice.

Name | License No. | Issuing port
William F. Joffroy, Inc | 03897 | Nogales.
American Customs Brokers, Inc | 11321 | Duluth.
W.Y. Moberly, Inc | 02926 | Great Falls.
Trans-Border Customs Services, Inc | 11408 | Champlain.
Miles & Joffroy, Inc | 11296 | San Diego.
Rudolph Miles & Sons, Inc | 04665 | El Paso.
H.A. & J.L. Wood, Inc | 04057 | Pembina.
Associated Customs Brokers, Inc | 10448 | Pembina.
Galax, Inc | 21362 | New York.
Arthur Andersen LLP | 13678 | Detroit.

Dated: October 22, 2002.
Jayson P. Ahern,
Assistant Commissioner, Office of Field Operations.

[FR Doc. 02-28250 Filed 11-5-02; 8:45 am]

BILLING CODE 4820-02-P